DEPARTMENT OF ENERGY

Federal Energy Regulatory Commission

Combined Notice of Filings #1

January 18, 2007.

Take notice that the Commission received the following electric corporate filings:

Docket Numbers: EC07-47-000.

Applicants: Wabash Valley Power Association, Inc; Duke Energy, Indiana, Inc.

Description: Wabash Valley Power Assoc., Inc, et al. submits an Application for authorization of disposition of jurisdictional assets.

Filed Date: 01/12/2007.

Accession Number: 20070117-0148.

Comment Date: 5 p.m. Eastern Time on Friday, February 02, 2007.

Take notice that the Commission received the following electric rate filings:

Docket Numbers: ER02-1330-007.

Applicants: Pacific Gas and Electric Company.

Description: Pacific Gas and Electric Company submits a compliance refund report pursuant to the Commission's 12/8/06 order.

Filed Date: 01/17/2007.

Accession Number: 20070117-5079.

Comment Date: 5 p.m. Eastern Time on Wednesday, February 07, 2007.

Docket Numbers: ER05-1065-006.

Applicants: Entergy Services Inc.

Description: Entergy Services, Inc, agent for the Entergy Operating Companies submits a compliance filing pursuant to the Commission's 10/18/06 order.

Filed Date: 01/16/2007.

Accession Number: 20070117-0231.

Comment Date: 5 p.m. Eastern Time on Tuesday, February 06, 2007.

Docket Numbers: ER06-819-004.

Applicants: ConEdison Energy Massachusetts, Inc.

Description: Consolidated Edison Energy Massachusetts Inc submits a revised Reliability Agreement with ISO New England Inc, pursuant to the Commission's 8/25/06 order.

Filed Date: 01/16/2007.

Accession Number: 20070117-0229.

Comment Date: 5 p.m. Eastern Time on Tuesday, February 06, 2007.

Docket Numbers: ER07-150-001,

Applicants: Public Service Company of New Mexico

Description: Public Service Company of New Mexico submits a revised OATT, FERC Electric Tariff Original Volume No. 6, to replace the 11/2/06 Joint OATT of PNM and Texas-New, Mexico Power Co.

Filed Date: 01/16/2007.

Accession Number: 20070117-0225.

Comment Date: 5 p.m. Eastern Time on Tuesday, February 06, 2007.

Docket Numbers: ER07-370-001.

Applicants: TexRep2 LLC.

Description: TexRep2, LLC submits an amended version of its 12/26/06 petition for acceptance of initial tariff, FERC Electric, Original Volume 1, waivers and blanket authority.

Filed Date: 01/16/2007.

Accession Number: 20070117-0226.

Comment Date: 5 p.m. Eastern Time on Tuesday, February 06, 2007.

Docket Numbers: ER07-434-000.

Applicants: Pennsylvania Electric Company; Metropolitan Edison Company; Pennsylvania Power Company; Jersey Central Power & Light Company; FirstEnergy Solutions Corporation.

Description: Pennsylvania Power Company et al submits its proposed amendments to their market-based rate tariffs.

Filed Date: 01/11/2007.

Accession Number: 20070117-0228.

Comment Date: 5 p.m. Eastern Time on Thursday, February 01, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E7-1156 Filed 1-25-07; 8:45 am]

BILLING CODE 6717-01-P